ENVIRONMENTAL PROTECTION AGENCY

[FRL-9989-26-Region 9]

Clean Air Act Prevention of Significant Deterioration Permit Issued to Tucson Electric Power for the Irvington Generating Station Project

Correction

In notice document 2019-01921, appearing on pages 3159 through 3160, in the issue of Monday, February 11, 2019, make the following correction:

On page 3159, in the third column, in the “DATES:” section, the text entry that reads “April 12, 2019” should read “February 11, 2019”.

[FR Doc. C1-2019-01921 Filed 3-1-19; 8:45 am]

BILLING CODE 1301-00-D